DEPARTMENT OF ENERGY

Federal Energy Regulatory Commission

[Project No. 2101-074]

Sacramento Municipal Utility District; Notice of Application and Applicant-Prepared EA Accepted for Filing, Soliciting Motions To Intervene and Protests, and Soliciting Comments, and Final Recommendations, Terms and Conditions, and Prescriptions

July 28, 2006.

Take notice that the following hydroelectric application and applicant-prepared environmental assessment has been filed with the Commission and is available for public inspection.

a. Type of Application: New—Major Modified License.

b. Project No.: 2101.

c. Date Filed: July 15, 2005.

d. Applicant: Sacramento Municipal Utility District.

e. Name of Project: Upper American River Project.

f. Location: On the Rubicon River, Silver Creek, and South Fork of the American River near Placerville, California. The project affects 6,375 acres of Federal land administered by the El Dorado National Forest and 54 acres of Federal land administered by the Bureau of Land Management.

g. Filed Pursuant to: Federal Power Act 16 U.S.C. 791 (a)-825(r).

h. Applicant Contact: David Hanson, Project Manager, Sacramento Municipal Utility District, 6301 S Street, Sacramento, California 95817-1899. Phone: 916-732-6703 or e-mail: dhanson@smud.org.

i. FERC Contact: Jim Fargo at (202) 502-6095, or e-mail: james.fargo@ferc.gov.

j. Deadline for filing motions to intervene and protests, comments, and final recommendations, terms and conditions, and prescriptions is 60 days from the issuance date of this notice; reply comments are due 105 days from the issuance date of this notice.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene and protests, comments, recommendations, terms and conditions, and prescriptions may be filed electronically via the Internet in lieu of paper. The Commission strongly encourages electronic filings. See 18 CFR 385.2001(a)(1)(iii) and the instructions on the Commission's Web site (http://www.ferc.gov) under the “e-Filing” link.

k. This application has been accepted for filing.

l. Description of project: The project is located on the west slope of the Sierra Nevada Mountain Range, in El Dorado and Sacramento counties. The proposed project would be comprised of eight developments; seven of which are existing developments (Loon Lake, Robbs Peak, Jones Fork, Union Valley, Jaybird, Camino, and Slab Creek/White Rock) constructed by SMUD from 1959 through 1985 under the initial FERC license, and one of which would be a new pumped storage development (Iowa Hill) proposed by SMUD to be constructed by 2015. Nearly all of the land surrounding the project reservoirs within the FERC Project Boundary is owned by the United States and administered by the Forest Service as part of the Eldorado National Forest (ENF). There are also several project-related recreation facilities, which are owned and operated by the ENF, at Loon Lake, Gerle Creek, Union Valley, and Ice House reservoirs. These recreation facilities are not project features.

• Loon Lake Development—(1) Rubicon Dam—A 36-foot-high by 644-foot-long, concrete gravity main diversion dam located on the Rubicon River, and a concrete gravity auxiliary dam that is 29-foot-high by 553-foot-long. These structures create the Rubicon Reservoir; (2) Rockbound Tunnel—A 0.2-mile-long, 13-foot-diameter unlined horseshoe tunnel that diverts water from Rubicon Reservoir to Buck Island Reservoir via Rockbound Lake (a non-project facility) located on Highland Creek; (3) Buck Island Dam—A concrete gravity diversion dam located on the Little Rubicon River that is 23-feet-high by 293-feet-long, and a 15-foot-high by 244-foot-long concrete gravity auxiliary dam. These structures create Buck Island Reservoir; (4) Buck-Loon Tunnel—A 1.6-mile-long, 13-foot-diameter unlined modified horseshoe tunnel that diverts water from Buck Island Reservoir to Loon Lake Reservoir; (5) Loon Lake Dam—A rockfill dam on Gerle Creek that is 0.4-mile-long by 108-feet-high, with a 250-foot-long side channel spillway on the right bank, and a 910-foot-long by 95-foot-high rockfill auxiliary dam, and an earthfill dike. These create Loon Lake Reservoir; (6) Loon Lake Penstock—A 0.3-mile-long, 14-foot-diameter concrete-lined horseshoe tunnel; 10-foot-diameter concrete lined vertical shaft; and 8.5-foot-diameter steel lined tunnel that extends from Loon Lake Reservoir to Loon Lake Powerhouse; (7) Loon Lake Powerhouse—An underground powerhouse, located over 1,100 feet below the surface of the Loon Lake Reservoir, consisting of one turbine with a rated capacity of 70,479 kW at best gate opening and one generator rated at 85,215 kW, with powerhouse maximum capability of 82,000 kW; (8) Loon Lake Tailrace Tunnel—A 3.8-mile-long, 18-foot diameter unlined horseshoe tunnel that runs from Loon Lake Powerhouse and discharges into Gerle Creek Reservoir; and (9) Transmission Lines—Two 69 kV overhead transmission lines: one extending to the Robbs Peak switchyard via the 7.9-mile-long Loon Lake-Robbs Peak Transmission Line, and the other extending to the Union Valley Switchyard via the 12.4-mile-long Loon Lake-Union Valley Transmission Line.

• Robbs Peak Development—(1) Gerle Creek Dam—A 58-foot-high, 444-foot-long concrete gravity overflow structure located on Gerle Creek, upstream of its confluence with SFRR, incorporating the intake of Gerle Creek Canal in its left abutment, creating Gerle Creek Reservoir; (2) Gerle Creek Canal—An above ground canal, 22-foot-wide and 19-foot-deep, extending 1.9 miles from Gerle Creek Reservoir to Robbs Peak Reservoir. It is partially lined with gunite; (3) Robbs Peak Dam—A 44-foot-high, 320-foot-long concrete gravity overflow structure, with 12 steel bulkhead gates, all 6.2-foot-high, on the spillway crest, located on the SFRR upstream of its confluence with Gerle Creek, that forms Robbs Peak Reservoir; (4) Robbs Peak Tunnel—A 3.2-mile-long, 13-foot-diameter unlined horseshoe and 10-foot-diameter lined diversion tunnel from Robbs Peak Reservoir to Robbs Peak Penstock; (5) Robbs Peak Penstock—A 9.75-to 8.5-foot-diameter, 0.4-mile-long steel penstock from Robbs Peak Tunnel to Robbs Peak Powerhouse; (6) Robbs Peak Powerhouse—Located on the northeast shore of Union Valley Reservoir, equipped with one turbine that has a rated capacity at best gate opening of 28,125 kW, and one generator rated at 29,700 kW, with maximum capability of 29,000 kW; and (7) Robbs Peak-Union Valley Transmission Line—A 6.8-mile-long, 69 kV overhead line that connects the Robbs Peak switchyard to the Union Valley switchyard.

• Jones Fork Development—(1) Ice House Dam—A rockfill dam located on the South Fork Silver Creek, 0.3-mile-long and 150-foot-high, incorporating a concrete ogee spillway with radial gates, and two auxiliary earthfill dikes; these create the Ice House Reservoir; (2) Jones Fork Tunnel—A 0.3-mile-long, 8-foot-diameter horseshoe concrete- and steel-lined tunnel from Ice House Reservoir to the Jones Fork Penstock; (3) Jones Fork Penstock—A 1.6-mile-long, 6-foot-diameter steel and concrete penstock from Jones Fork Tunnel to the Jones Fork Powerhouse; (4) Jones Fork Powerhouse—Contains a turbine with a rated capacity at best gate opening of 10,400 kW, and one generator rated at 11,495 kW, located on the southeast shore of Union Valley Reservoir; with maximum capability of 11,500 kW; and (5) Jones Fork-Union Valley Transmission Line—A 69 kV, 4.0-mile-long overhead transmission line from the Jones Fork switchyard to the Union Valley switchyard.

• Union Valley Development—(1) Union Valley Dam—An earthfill dam located on Silver Creek, 0.3-mile-long and 453-feet-high, incorporating a concrete ogee spillway with radial gates, creating Union Valley Reservoir; (2) Union Valley Tunnel—A 268-foot-long, 11-foot-diameter concrete-lined tunnel with an approximately 10-foot-diameter steel penstock in part of the tunnel and connecting Union Valley Reservoir with Union Valley Powerhouse; (3) Union Valley Penstock—A 0.3-mile-long, 10-foot-diameter steel penstock that conveys water from the outlet of the Union Valley Tunnel to the Union Valley Powerhouse; (4) Union Valley Powerhouse—The powerhouse is equipped with one turbine with a rated capacity at best gate opening of 40,074 kW, and one generator rated at 44,400 kW, located at the base of Union Valley Dam; with maximum capability of 46,700 kW; and (5) Transmission Lines—Two 230 kV overhead transmission lines, one to the Camino switchyard via the 11.8-mile-long Union Valley-Camino Transmission Line, and the other to the Jaybird switchyard via the 5.9-mile-long Union Valley-Jaybird Transmission Line.

• Jaybird Development—(1) Junction Dam—A double curvature, concrete overflow arch dam located on Silver Creek that is 525 feet long and 168 feet high, creating Junction Reservoir; (2) Jaybird Tunnel—An 11- to 14-foot-diameter modified horseshoe tunnel 4.4-mile-long, connecting Junction Reservoir and the Jaybird Penstock; (3) Jaybird Penstock—A 6- to 10-foot-diameter steel penstock with a surge tank that is 0.5-mile-long, connecting Jaybird Tunnel and Jaybird Powerhouse; (4) Jaybird Powerhouse—The powerhouse is equipped with two Pelton turbines, one with a rated capacity of 61,607 kW and the other 61,574 kW at best gate opening, and two generators, each rated at 84,450 kW; with total powerhouse maximum capability of 144,000 kW; and (5) Jaybird-White Rock Transmission Line—A 15.9-mile-long, 230 kV overhead transmission line connecting the Jaybird and White Rock switchyards.

• Camino Development—(1) Camino Dam—A concrete double curvature arch dam located on Silver Creek that is 470-foot-long and 133-foot-high, and has three integral bulkhead gates. These structures create Camino Reservoir; (2) Camino Tunnel—A 5-mile-long power tunnel with a diameter ranging from 13 feet to 14 feet; and including a surge tank that connects Camino Reservoir with the Camino Penstock; (3) Brush Creek Dam—A double curvature arch dam located on Brush Creek, 213 feet high and 780 feet long, creating Brush Creek Reservoir; (4) Brush Creek Tunnel—An approximately 14-foot-diameter modified horseshoe tunnel extending 0.8 mile from Brush Creek Reservoir to the lower end of Camino Tunnel; (5) Camino Penstock—A 5-foot to 12-foot-diameter, 0.3-mile-long above ground steel penstock connecting Camino Tunnel and Camino Powerhouse; (7) Camino Powerhouse—The powerhouse is located on the SFAR and is equipped with two turbines: One with a rated capacity of 73,760 kW and the other with a rated capacity at best gate opening of 70,769 kW with total powerhouse maximum capability of 150,000 kW. The powerhouse is also equipped with two generators rated at 90,820 kW each. Both generators are installed with secondary oil containment; and (8) Transmission Lines—Two 230 kV overhead transmission lines originate at the Camino Switchyard, one (Camino-Lake) is 31.7-mile-long and connects to SMUD's Lake Substation and the other (Camino-White Rock) is 10.0 miles long and connects to the White Rock Switchyard.

Slab Creek/White Rock Development—(1) Slab Creek Dam—A double curvature variable radius concrete arch dam that stretches across the South Fork American River is 250 feet high and 817 feet long, with a central uncontrolled overflow spillway. The structures create Slab Creek Reservoir; (2) Slab Creek Penstock—A 40-foot-long, 24-inch-diameter steel penstock that passes through the dam and connects Slab Creek Reservoir with Slab Creek Powerhouse; (3) Slab Creek Powerhouse—The powerhouse, which is located at the base of Slab Creek Dam and utilizes minimum stream flow releases, has one turbine with a rated capacity at best gate opening of 450 kW, and one generator rated at 485 kW, with a total powerhouse maximum capability of 400 kW; (4) White Rock Tunnel—an approximately 20- to 24-foot-diameter modified horseshoe tunnel 4.9-mile-long and has a surge shaft that connects Slab Creek Reservoir with White Rock Penstock; (5) White Rock Penstock—A 9- to 15-foot-diameter, 0.3-mile-long above-ground steel penstock that connects White Rock Tunnel to White Rock Powerhouse; (6) White Rock Powerhouse—The powerhouse is equipped with two turbines, one rated at 112,976 kW and the other at 120,000 kW at best gate opening, and two generators, rated at 109,250 kW and 133,000 kW, with total powerhouse maximum capability of 224,000 kW; and (7) Transmission Lines—There are two 230 kV overhead transmission lines and one 12 kV distribution line. The two transmission lines, both 21.8 miles in length, connect the White Rock switchyard to SMUD's Folsom Junction. The 600-foot-long 12 kV Slab Creek tap line connects the Slab Creek Powerhouse to the junction with Pacific Gas and Electric Company's 12-kV distribution line.

SMUD's Proposed Action includes the addition of the Iowa Hill Development. The development would be composed of the following features: (1) Iowa Hill Reservoir—A new off-stream, rock filled earthen dike of varying height depending on natural terrain (maximum height 280 feet) and 5,900 feet in circumference with a geotextile liner on the reservoir floor and inside surface of the dike; (2) Iowa Hill Tunnel—A new underground water conduit extending from Iowa Hill Reservoir and connecting to Slab Creek Reservoir, and comprised of: a 1,120-foot-long, 19.02-foot-diameter, concrete-lined vertical shaft; a 1,110-foot-long, 19.02-foot-diameter concrete-lined high pressure tunnel; a 250-foot-long, 15.74-foot-diameter, steel-lined high pressure tunnel; a 150-foot-long, 12.45-foot-diameter, steel manifold; three 180-foot-long, 7.87-foot-diameter, steel penstocks; three 450-foot-long, 12.46-foot-diameter draft tube extensions; a 150-foot-long, 17.22-foot-diameter steel manifold; and a 1,230-foot-long, 20-93-foot-diameter, concrete-lined low pressure tunnel; (3) Iowa Hill Powerhouse—A new underground powerhouse along the Iowa Hill Tunnel that would include three variable speed turbines each with a nominal rating of 133 MW, and a three generators each rated at 170 MW as a pump motor. The powerhouse would have a maximum capability of 400 MW; (4) Iowa Hill Switchyard—A new Iowa Hill Switchyard; and (5) Transmission Line—A new 230 kV transmission line that would connect the Iowa Hill Switchyard to the existing Camino-White Rock Transmission Line. SMUD anticipates that from the time a new project license is issued by FERC and accepted by SMUD, seven years would be required to complete the engineering, procurement, and construction of the Iowa Hill Development.

In addition, as part of the License Application, SMUD proposes to exclude from the project description and FERC Project Boundary certain transmission line sections included in the current license and FERC Project Boundary. The excluded sections are: (1) A 9.3-mile long section of 230 kV line from Folsom Junction to Orangevale Substation; (2) a 17.8-mile long section of 230 kV line from Folsom Junction to Hedge Substation; and (3) a 1.9-mile long section of 230 kV line from Folsom Junction to Lake Substation.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

n. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) Bear in all capital letters the title “PROTEST”, “MOTION TO INTERVENE”, “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

You may also register online at http://www.ferc.gov/docs-filing/esubscription.asp to be notified via e-mail of new filings and issuances related to this or other pending projects. For assistance, contact FERC Online Support.

o. Procedural schedule: The application will be processed according to the following Hydro Licensing Schedule. Revisions to the schedule will be made if the Commission determines it necessary to do so:

Milestone | Tentative date
Notice of the availability of the draft EIS | March 2007.
Notice of the availability of the final EIS | August 2007.
Ready for Commission's decision on the application | October 2007.

Magalie R. Salas,
Secretary.

[FR Doc. E6-12718 Filed 8-4-06; 8:45 am]

BILLING CODE 6450-01-P